DEPARTMENT OF ENERGY

Federal Energy Regulatory Commission

[Docket No. RT01-74-000; Docket No. RT01-67-000; and Docket No. EL02-101-000]

GridSouth Transco, LLC, Carolina Power & Light Company, Duke Energy Corporation, South Carolina Electric & Gas Company; GridFlorida, LLC, Florida Power & Light Company, Florida Power Corporation, Tampa Electric Company; Cleco Power LLC; Dalton Utilities (acting as agent for the City of Dalton, Georgia); Entergy Services, Inc. (acting as agent for Entergy Arkansas, Inc., Entergy Gulf States, Inc., Entergy Louisiana, Inc., Entergy Mississippi, Inc., and Entergy New Orleans, Inc.); Georgia Transmission Corporation; JEA (formerly Jacksonville Electric Authority); MEAG Power; Sam Rayburn G & T Electric Cooperative Inc.; South Carolina Public Service Authority; Southern Company Services, Inc. (Acting as Agent for Alabama Power Company, Georgia Power Company, Gulf Power Company, Mississippi Power Company, and Savannah Electric and Power Company); and the City of Tallahassee, Florida; Notice of FERC Staff Briefing

November 22, 2002.

The Federal Energy Regulatory Commission hereby gives notice that on December 5, 2002, members of its staff will attend a briefing given by J. Stephen Henderson of Charles River Associates to discuss a cost-benefit study that was recently released by the Southeastern Association of Regulatory Utility Commissioners. The staff's attendance is part of the Commission's ongoing outreach efforts to develop regional transmission organizations in the Southeastern United States.

The meeting will be held on Thursday, December 5, 2002, at 2 p.m., in a room to be designated at the offices of the Federal Energy Regulatory Commission, 888 First Street, NE., Washington, DC 20426. This meeting is open to the public.

The meeting may discuss matters at issue in Carolina Power & Light Company, et al., Docket No. RT01-74; GridFlorida LLC, et al., Docket No. RT01-67; and Cleco Power LLC; et al., Docket No. EL02-101.

For more information, contact Charles Whitmore, Special Assistant, in the Office of Market Oversight and Investigation at (202) 502-6256 or e-mail at charles.whitmore@ferc.gov.

Linwood A. Watson, Jr.,
Deputy Secretary.

[FR Doc. 02-30293 Filed 11-27-02; 8:45 am]

BILLING CODE 6717-01-P